DEPARTMENT OF COMMERCE

National Oceanic and Atmospheric Administration

RIN: 0648-XX91

Gulf of Mexico Fishery Management Council; Public Meetings; Correction

AGENCY: National Marine Fisheries Service (NMFS), National Oceanic and Atmospheric Administration (NOAA), Commerce.

ACTION: Notice of public meetings.

SUMMARY: The Gulf of Mexico Fishery Management Council will convene public meetings.

DATES: The meetings will be held August 16-20, 2010.

ADDRESSES: The meetings will be held at the Crowne Plaza, 200 E. Gregory St., Pensacola, FL 32502.

Council address: Gulf of Mexico Fishery Management Council, 2203 North Lois Avenue, Suite 1100, Tampa, FL 33607.

FOR FURTHER INFORMATION CONTACT: Dr. Stephen Bortone, Executive Director, Gulf of Mexico Fishery Management Council; telephone: (813) 348-1630.

SUPPLEMENTARY INFORMATION: This is an addendum to a notice previously published in the Federal Register. The original notice published on July 29, 2010, 75 FR 44769. This notice adds two items to the agenda.

Under the Council's agenda on Thursday, August 19, 2010, from 2 p.m. - 6:30 p.m., the Council will receive public testimony on exempted fishing permits (EFPs), if any; Final Framework Action for Greater Amberjack; and 2010 Supplemental Recreational Red Snapper seasons. Afterwards there will be an open public comment period regarding any fishery issue of concern. People wishing to speak before the Council should complete a public comment card prior to the comment period.

Under the Committee's agenda on Tuesday, August 17, 2010, from 1:30 p.m. - 5 p.m., the Reef Fish Management Committee will take final action on a framework action for greater amberjack; discuss the Red Grouper regulatory amendment - codified text of regulations and Gag Interim Rule; receive a status report on Amendment 32 Gag/Red Grouper; discuss a Fish Tag System for recreational Grouper; discuss Black Grouper allocation between the Gulf and South Atlantic; discuss the pros and cons of regionalized management; review a discussion paper on potential Red Snapper changes; review the Red Snapper IFQ; review the IFQ finance program; discuss recommendations for the 2010 Supplemental Recreational Red Snapper seasons; and review an Options Paper for Red Snapper TAC in 2011 and 2012.

All other previously-published information remains the same.

Dated: August 2, 2010.
Tracey L. Thompson,
Acting Director, Office of Sustainable Fisheries, National Marine Fisheries Service.

[FR Doc. 2010-19275 Filed 8-4-10; 8:45 am]

BILLING CODE 3510-22-S